DEPARTMENT OF LABOR

Occupational Safety and Health Administration

[Docket No. OSHA-2009-0025]

UL LLC: Applications for Expansion of Recognition and Proposed Modification to the NRTL Program's List of Appropriate Test Standards

AGENCY: Occupational Safety and Health Administration (OSHA), Labor.

ACTION: Notice.

SUMMARY: In this notice, OSHA announces the applications of UL LLC, for expansion of the scope of recognition as a Nationally Recognized Testing Laboratory (NRTL) and presents the agency's preliminary finding to grant the applications. Additionally, OSHA proposes to add thirteen test standards to the NRTL Program's List of Appropriate Test Standards.

DATES: Submit comments, information, and documents in response to this notice, or requests for an extension of time to make a submission, on or before November 13, 2023.

ADDRESSES: Submit comments by any of the following methods:

Electronically: You may submit comments and attachments electronically at: https://www.regulations.gov, which is the Federal eRulemaking Portal. Follow the instructions online for submitting comments.

Facsimile: If your comments, including attachments, are not longer than 10 pages, you may fax them to the OSHA Docket Office at (202) 693-1648.

Docket: To read or download comments or other material in the docket, go to http://www.regulations.gov. Documents in the docket are listed in the http://www.regulations.gov index; however, some information (e.g., copyrighted material) is not publicly available to read or download through the website. All submissions, including copyrighted material, are available for inspection through the OSHA Docket Office. Contact the OSHA Docket Office at (202) 693-2350 (TTY (877) 889-5627) for assistance in locating docket submissions.

Instructions: All submissions must include the agency name and the OSHA docket number for this Federal Register notice (OSHA-2009-0025). OSHA will place comments, attachments and other information and requests, including personal information, in the public docket without revision, and these materials will be available online at http://www.regulations.gov. Therefore, the agency cautions commenters about submitting statements they do not want made available to the public, or submitting comments that contain personal information (either about themselves or others) such as Social Security numbers, birth dates, and medical data.

Extension of comment period: Submit requests for an extension of the comment period on or before November 13, 2023 to the Office of Technical Programs and Coordination Activities, Directorate of Technical Support and Emergency Management, Occupational Safety and Health Administration, U.S. Department of Labor; or by fax to (202) 693-1644.

FOR FURTHER INFORMATION CONTACT: Information regarding this notice is available from the following sources:

Press inquiries: Contact Mr. Frank Meilinger, Director, OSHA Office of Communications, U.S. Department of Labor, telephone: (202) 693-1999; email: meilinger.francis2@dol.gov.

General and technical information: Contact Mr. Kevin Robinson, Director, Office of Technical Programs and Coordination Activities, Directorate of Technical Support and Emergency Management, Occupational Safety and Health Administration, U.S. Department of Labor, phone: (202) 693-1911 or email: robinson.kevin@dol.gov.

SUPPLEMENTARY INFORMATION:

I. Notice of the Application for Expansion

OSHA is providing notice that UL LLC, (UL) is applying to expand the current recognition as a NRTL. UL requests the addition of thirty-five test standards to the NRTL scope of recognition.

OSHA recognition of a NRTL signifies that the organization meets the requirements specified in 29 CFR 1910.7. Recognition is an acknowledgment that the organization can perform independent safety testing and certification of the specific products covered within the scope of recognition. Each NRTL's scope of recognition includes (1) the type of products the NRTL may test, with each type specified by the applicable test standard; and (2) the recognized site(s) that has/have the technical capability to perform the product-testing and product-certification activities for test standards within the NRTL's scope. Recognition is not a delegation or grant of government authority; however, recognition enables employers to use products approved by the NRTL to meet OSHA standards that require product testing and certification.

The agency processes applications by NRTLs or applicant organizations for initial recognition, as well as for expansion or renewal of recognition, following requirements in Appendix A to 29 CFR 1910.7. This appendix requires that the agency publish two notices in the Federal Register in processing an application. In the first notice, OSHA announces the application and provides a preliminary finding. In the second notice, the agency provides the final decision on the application. These notices set forth the NRTL's scope of recognition or modifications of that scope. OSHA maintains an informational web page for each NRTL, including UL, which details that NRTL's scope of recognition. These pages are available from the OSHA website at https://www.osha.gov/dts/otpca/nrtl/index.html.

UL currently has fifty-five facilities (sites) recognized by OSHA for product testing and certification, with headquarters located at: UL LLC, 333 Pfingsten Road, Northbrook, Illinois 60062. A complete list of UL sites recognized by OSHA is available at https://www.osha.gov/dts/otpca/nrtl/ul.html.

II. General Background on the Application

UL submitted two applications, one dated December 24, 2021 (OSHA-2009-0025-0053), and a second dated May 5, 2023 (OSHA-2009-0025-0054). The first application was amended on July 19, 2022, to remove two standards from the original request (OSHA-2009-0025-0055). In total, the expansion applications, as amended, requested the addition of thirty-seven test standards to the scope of recognition. OSHA has determined that two of the standards included in the amended expansion application, UL 80079-36 and 80079-37, are not appropriate test standards and is therefore not proposing they be included for inclusion in UL's NRTL Scope of Recognition or in the NRTL Program's List of Appropriate Test Standards. This notice covers the expansion to include the remaining thirty-five standards. OSHA staff performed a detailed analysis of the application packets and other pertinent information. OSHA did not perform any on-site reviews in relation to these applications.

Table 1, below, lists the test standards found in UL's applications for expansion for testing and certification of products under the NRTL Program.

Table 1—Proposed Test Standards for Inclusion in UL's NRTL Scope of Recognition
Test standard | Test standard title
UL 62841-1 | Electric Motor-Operated Hand-Held Tools, Transportable Tools and Lawn and Garden Machinery—Safety—Part 1: General Requirements.
UL 62841-2-1 | Electric Motor-Operated Hand-Held Tools, Transportable Tools And Lawn And Garden Machinery—Part 2-1: Particular Requirements for Hand-Held Drills and Impact Drills.
UL 62841-2-2 | Electric Motor-Operated Hand-Held Tools, Transportable Tools and Lawn and Garden Machinery—Safety—Part 2-2: Particular Requirements For Hand-Held Screwdrivers and Impact Wrenches.
UL 62841-2-3 * | Electric Motor-Operated Hand-Held Tools, Transportable Tools And Lawn And Garden Machinery—Safety—Part 2-3: Particular Requirements For Hand-Held Grinders, Disc-Type Polishers And Disc-Type Sanders.
UL 62841-2-4 | Electric Motor-Operated Hand-Held Tools, Transportable Tools and Lawn and Garden Machinery—Safety—Part 2-4: Particular Requirements For Hand-Held Sanders And Polishers Other.
UL 62841-2-5 | Electric Motor-Operated Hand-Held Tools, Transportable Tools And Lawn And Garden Machinery—Safety—Part 2-5: Particular Requirements for Hand-Held Circular Saws.
UL 62841-2-8 | Safety Requirements for Particular Requirements for Hand-Held Shears and Nibblers.
UL 62841-2-9 | Electric Motor-Operated Hand-Held Tools, Transportable Tools And Lawn and Garden Machinery—Safety—Part 2-9: Particular Requirements for Hand-Held Tappers and Threaders.
UL 62841-2-10 | Electric Motor-Operated Hand-Held Tools, Transportable Tools And Lawn And Garden Machinery—Part 2-10: Particular Requirements for Hand-Held Mixers.
UL 62841-2-11 | Safety Requirements for Particular Requirements for Hand-Held Reciprocating Saws.
UL 62841-2-14 | Electric Motor-Operated Hand-Held Tools, Transportable Tools and Lawn And Garden Machinery—Safety—Part 2-14: Particular Requirements for Hand-Held Planers.
UL 62841-2-17 | Electric Motor-Operated Hand-Held Tools, Transportable Tools and Lawn and Garden Machinery—Safety—Part 2-17: Particular Requirements for Hand-Held Routers.
UL 62841-2-21 | Electric Motor-Operated Hand-Held Tools, Transportable Tools And Lawn And Garden Machinery—Part 2-21: Particular Requirements for Hand-Held Drain Cleaners.
UL 62841-3-1 | Electric Motor-Operated Hand-Held Tools, Transportable Tools and Lawn and Garden Machinery—Safety—Part 3-1: Particular Requirements For Transportable Table Saws.
UL 62841-3-4 | Safety Requirements for Particular Requirements for Transportable Bench Grinders.
UL 62841-3-6 | Safety Requirements for Particular Requirements for Transportable Diamond Drills with Liquid System.
UL 62841-3-7 * | Electric Motor-Operated Hand-Held Tools, Transportable Tools And Lawn And Garden Machinery—Safety—Part 3-7: Particular Requirements for Transportable Wall Saws.
UL 62841-3-9 | Electric Motor-Operated Hand-Held Tools, Transportable Tools and Lawn and Garden Machinery—Safety—Part 3-9: Particular Requirements for Transportable Mitre Saws.
UL 62841-3-10 | Electric Motor-Operated Hand-Held Tools, Transportable Tools and Lawn and Garden Machinery—Safety—Part 3-10: Particular Requirements for Transportable Cut-Off Machines.
UL 62841-3-12 * | Electric Motor-Operated Hand-Held Tools, Transportable Tools and Lawn and Garden Machinery—Safety—Part 3-12: Particular Requirements for Transportable Threading Machines.
UL 62841-3-13 | Electric Motor-Operated Hand-Held Tools, Transportable Tools And Lawn And Garden Machinery—Part 3-13: Particular Requirements for Transportable Drills.
UL 62841-3-14 * | Electric Motor-Operated Hand-Held Tools, Transportable Tools And Lawn And Garden Machinery—Safety—Part 3-14: Particular Requirements for Transportable Drain Cleaners.
UL 62841-3-1000 * | Electric Motor-Operated Hand-Held Tools, Transportable Tools And Lawn And Garden Machinery—Safety—Part 3-1000: Particular Requirements For Transportable Laser Engravers.
UL 62841-4-1 | Electric Motor-Operated Hand-Held Tools, Transportable Tools and Lawn And Garden Machinery-Safety-Part 4-1: Particular Requirements for Chain Saws.
UL 62841-4-2 | Standard for Electric Motor-Operated Hand-Held Tools, Transportable Tools and Lawn And Garden Machinery—Safety—Part 4-2: Particular Requirements for Hedge Trimmers.
UL 62841-4-4 * | Electric Motor-Operated Hand-Held Tools, Transportable Tools And Lawn And Garden Machinery—Safety—Part 4-4: Particular Requirements For Lawn Trimmers, Lawn Edge Trimmers, Grass Trimmers, Brush Cutters And Brush Saws.
UL 62841-4-1000 * | Electric Motor-Operated Hand-Held Tools, Transportable Tools And Lawn And Garden Machinery—Safety—Part 4-1000: Particular Requirements For Utility Machines.
UL 60745-2-23 | Hand-Held Motor-Operated Electric Tools—Safety—Part 2-23: Particular Requirements for Die Grinders and Small Rotary Tools.
UL 60079-33 * | Explosive Atmospheres—Part 33: Equipment Protection by Special Protection “s”.
UL 2610 * | Commercial Premises Security Alarm Units and Systems.
UL 428A * | Electrically Operated Valves for Gasoline and Gasoline/Ethanol Blends with Nominal Ethanol Concentrations Up to 85 Percent (E0-E85).
UL 428B * | Electrically Operated Valves for Diesel Fuel, Biodiesel Fuel, Diesel/Biodiesel Blends with Nominal Biodiesel Concentrations Up To 20 Percent (B20), Kerosene, and Fuel Oil.
UL 3100 * | ANSI/CAN/UL Automated Mobile Platforms (AMPs).
UL 2743 | Standard for Portable Power Packs.
UL 8400 * | Virtual Reality, Augmented Reality and Mixed Reality Technology Equipment.
* In this notice, OSHA also proposes to add these test standards to the NRTL Program's List of Appropriate Test Standards.

III. Proposal To Add New Test Standards to the NRTL Program's List of Appropriate Test Standards

Periodically, OSHA will propose to add new test standards to the NRTL list of appropriate test standards following an evaluation of the test standard document. To qualify as an appropriate test standard, the agency evaluates the document to: (1) verify it represents a product category for which OSHA requires certification by a NRTL; (2) verify the document represents a product and not a component; and (3) verify the document defines safety test specifications (not installation or operational performance specifications). OSHA becomes aware of new test standards through various avenues. For example, OSHA may become aware of new test standards by: (1) monitoring notifications issued by certain Standards Development Organizations; (2) reviewing applications by NRTLs or applicants seeking recognition to include new test standards in their scopes of recognition; and (3) obtaining notification from manufacturers, manufacturing organizations, government agencies, or other parties. OSHA may determine to include a new test standard in the list, for example, if the test standard is for a particular type of product that another test standard also covers or it covers a type of product that no standard previously covered.

In this notice, OSHA proposes to add thirteen new test standards to the NRTL Program's list of appropriate test standards. Table 2, below, lists the test standards that are new to the NRTL Program. OSHA preliminarily determines that these test standards are appropriate test standards. OSHA seeks public comment on this preliminary determination.

Table 2—Standards OSHA Is Proposing to Add to the NRTL Program's List of Appropriate Test Standards
Test standard | Test standard title
UL 62841-2-3 | Electric Motor-Operated Hand-Held Tools, Transportable Tools And Lawn And Garden Machinery—Safety—Part 2-3: Particular Requirements For Hand-Held Grinders, Disc-Type Polishers And Disc-Type Sanders.
UL 62841-3-7 | Electric Motor-Operated Hand-Held Tools, Transportable Tools and Lawn and Garden Machinery—Safety—Part 3-7: Particular Requirements for Transportable Wall Saws.
UL 62841-3-12 | Electric Motor-Operated Hand-Held Tools, Transportable Tools and Lawn and Garden Machinery—Safety—Part 3-12: Particular Requirements for Transportable Threading Machines.
UL 62841-3-14 | Electric Motor-Operated Hand-Held Tools, Transportable Tools and Lawn and Garden Machinery—Safety—Part 3-14: Particular Requirements for Transportable Drain Cleaners.
UL 62841-3-1000 | Electric Motor-Operated Hand-Held Tools, Transportable Tools and Lawn and Garden Machinery—Safety—Part 3-1000: Particular Requirements For Transportable Laser Engravers.
UL 62841-4-1000 | Electric Motor-Operated Hand-Held Tools, Transportable Tools and Lawn and Garden Machinery—Safety—Part 4-1000: Particular Requirements For Utility Machines.
UL 62841-4-4 | Electric Motor-Operated Hand-Held Tools, Transportable Tools And Lawn And Garden Machinery—Safety—Part 4-4: Particular Requirements for Lawn Trimmers, Lawn Edge Timmers, Grass Trimmers, Brush Cutters And Brush Saws.
UL 60079-33 | Explosive Atmospheres—Part 33: Equipment Protection by Special Protection “s”.
UL 2610 | Commercial Premises Security Alarm Units and Systems.
UL 428A | Electrically Operated Vales for Gasoline and Gasoline/Ethanol Blends with Nominal Ethanol Concentrations Up to 85 Percent (E0-E85).
UL 428B | Electrically Operated Valves for Diesel Fuel, Biodiesel Fuel, Diesel/Biodiesel Blends with Nominal Biodiesel Concentrations Up To 20 Percent (B20), Kerosene, and Fuel Oil.
UL 3100 | ANSI/CAN/UL Automated Mobile Platforms (AMPs).
UL 8400 | Virtual Reality, Augmented Reality and Mixed Reality Technology Equipment.

IV. Preliminary Findings on the Applications

UL submitted acceptable applications for expansion of the scope of recognition. OSHA's review of the application files and related material preliminarily indicates that UL can meet the requirements prescribed by 29 CFR 1910.7 for expanding recognition to include the addition of the test standards listed above for NRTL testing and certification. This preliminary finding does not constitute an interim or temporary approval of UL's applications.

OSHA also preliminarily determined that the test standards listed above are appropriate test standards.

OSHA seeks public comment on these preliminary determinations.

V. Public Participation

OSHA welcomes public comment as to whether UL meets the requirements of 29 CFR 1910.7 for expansion of recognition as a NRTL and whether the test standards listed above are appropriate test standards that should be included in the NRTL Program's List of Appropriate Test Standards. Comments should consist of pertinent written documents and exhibits.

Commenters needing more time to comment must submit a request in writing, stating the reasons for the request by the due date for comments. OSHA will limit any extension to 10 days unless the requester justifies a longer time period. OSHA may deny a request for an extension if it is not adequately justified.

To review copies of the exhibits identified in this notice, as well as comments submitted to the docket, contact the Docket Office, Occupational Safety and Health Administration, U.S. Department of Labor. These materials also are generally available online at https://www.regulations.gov under Docket No. OSHA-2009-0025 (for further information, see the “Docket” heading in the section of this notice titled ADDRESSES),

OSHA staff will review all comments to the docket submitted in a timely manner and after addressing the issues raised by these comments, make a recommendation to the Assistant Secretary for Occupational Safety and Health on whether to grant UL's applications for expansion of its scope of recognition and to add the test standards listed above to the NRTL Program's List of Appropriate Test Standards. The Assistant Secretary will make the final decision on granting the applications and on adding the test standards listed above to the NRTL Program's List of Appropriate Test Standards. In making these decisions, the Assistant Secretary may undertake other proceedings prescribed in Appendix A to 29 CFR 1910.7.

OSHA will publish a public notice of its final decision in the Federal Register.

VI. Authority and Signature

James S. Frederick, Deputy Assistant Secretary of Labor for Occupational Safety and Health, authorized the preparation of this notice. Accordingly, the agency is issuing this notice pursuant to 29 U.S.C. 657(g)(2), Secretary of Labor's Order No. 8-2020 (85 FR 58393, Sept. 18, 2020), and 29 CFR 1910.7.

Signed at Washington, DC, on October 20, 2023.
James S. Frederick,
Deputy Assistant Secretary of Labor for Occupational Safety and Health.

[FR Doc. 2023-23734 Filed 10-26-23; 8:45 am]

BILLING CODE 4510-26-P